DEPARTMENT OF COMMERCE

International Trade Administration

[C-523-816]

Certain Aluminum Foil From the Sultanate of Oman: Final Results of Countervailing Duty Administrative Review; 2022

AGENCY: Enforcement and Compliance, International Trade Administration, U.S. Department of Commerce.

SUMMARY: The U.S. Department of Commerce (Commerce) determines that Oman Aluminium Rolling Company SPC, a producer and exporter of certain aluminum foil (aluminum foil) from the Sultanate of Oman (Oman) received countervailable subsidies during the period of review January 1, 2022, through December 31, 2022.

DATES: Applicable September 9, 2025.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On December 13, 2024, Commerce published the Preliminary Results in the Federal Register and invited interested parties to comment.¹ On May 16, 2025, Commerce extended the deadline for the final results of this administrative review.² The deadline for these final results is now September 5, 2025. For a complete description of the events that occurred since the Preliminary Results, see the Issues and Decision Memorandum.³

¹ See Certain Aluminum Foil from the Sultanate of Oman: Preliminary Results of Countervailing Duty Administrative Review; 2022, 89 FR 100971 (December 13, 2024) (Preliminary Results), and accompanying Preliminary Decision Memorandum.

² See Memorandum, “Extension of Deadline for Final Results of Countervailing Duty Administrative Review,” dated May 16, 2025.

³ See Memorandum, “Issues and Decision Memorandum for the Final Results of the Administrative Review of the Countervailing Duty Order on Certain Aluminum Foil from the Sultanate of Oman; 2022,” dated concurrently with, and hereby adopted by, this notice (Issues and Decision Memorandum).

Scope of the Order

The product covered by this Order is aluminum foil.⁴ For a complete description of the scope of the Order, see the Issues and Decision Memorandum.

⁴ See Certain Aluminum Foil from the Sultanate of Oman and the Republic of Turkey: Countervailing Duty Orders, 86 FR 62782 (November 12, 2021) (Order).

Analysis of Comments Received

Commerce addressed all issues raised in interested parties' case and rebuttal briefs in the Issues and Decision Memorandum. A list of the issues raised by parties, to which Commerce responded in the Issues and Decision Memorandum, is provided as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁵ For a complete description of the methodology underlying all of Commerce's conclusions, including our reliance on facts otherwise available, including adverse facts available (AFA), pursuant to sections 776(a) and (b) of the Act, see the Issues and Decision Memorandum.

⁵ See sections 771(5)(B) and (D) of the Act regarding financial contribution; section 771(5)(E) of the Act regarding benefit; and section 771(5A) of the Act regarding specificity.

Changes Since the Preliminary Results

Based on a review of the record and comments received from interested parties regarding our Preliminary Results and Post-Preliminary Analysis,⁶ and for the reasons explained in the Issues and Decision Memorandum, we made one modification to our upstream subsidy analysis for these final results of review.

⁶ See Memorandum, “Post-Preliminary Analysis Memorandum for the Administrative Review of the Countervailing Duty Order on Certain Aluminum Foil from the Sultanate of Oman,” dated May 14, 2025 (Post-Preliminary Analysis).

Final Results of Administrative Review

We determine that the following net countervailable subsidy rate exists for the period January 1, 2022, through December 31, 2022:

⁷ Commerce found that Oman Aluminium Rolling Company SPC is cross-owned with Sohar Paper Cores LLC, Takamul Investment Company LLC, and OQ SAOC.

Company | Subsidy rate (percent ad valorem)
Oman Aluminium Rolling Company SPC ⁷ | 10.88

Disclosure

Commerce intends to disclose its calculations and analysis performed for these final results of review within five days after the date of publication of this notice in the Federal Register in accordance with 19 CFR 351.224(b).

Assessment Rates

Pursuant to section 751(a)(2)(C) of the Act and 19 CFR 351.212(b)(2), Commerce has determined, and U.S. Customs and Border Protection (CBP) shall assess, countervailing duties on all appropriate entries of subject merchandise in accordance with the final results of this review, for the above-listed companies at the applicable ad valorem assessment rates listed. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

In accordance with section 751(a)(2)(C) of the Act, Commerce intends to instruct CBP to collect cash deposits of estimated countervailing duties in the amounts shown for the companies subject to this review for shipments of subject merchandise entered, or withdrawn from warehouse, for consumption on or after the date of publication of the final results of this administrative review. For all non-reviewed companies, we will instruct CBP to continue to collect cash deposits of estimated countervailing duties at the most recent company-specific or all-others rate applicable to the company, as appropriate. These cash deposits, when imposed, shall remain in effect until further notice.

Administrative Protective Order (APO)

This notice also serves as a final reminder to parties subject to an APO of their responsibility concerning the return or destruction of proprietary information disclosed under APO in accordance with 19 CFR 351.305(a)(3). Timely written notification of the return or destruction of APO materials or conversion to judicial protective order is hereby requested. Failure to comply with the regulations and terms of an APO is a violation subject to sanction.

Notice to Interested Parties

These final results are issued and published in accordance with sections 751(a)(1) and 777(i)(1) of the Act, and 19 CFR 351.221(b)(5).

Dated: September 3, 2025.
Christopher Abbott,
Deputy Assistant Secretary for Policy and Negotiations, performing the non-exclusive functions and duties of the Assistant Secretary for Enforcement and Compliance.

Appendix

List of Topics Discussed in the Issues and Decision Memorandum

I. Summary

II. Background

III. Scope of the Order

IV. Subsidies Valuation Information

V. Upstream Subsidy Analysis

VI. Use of Facts Otherwise Available and Adverse Inferences

VII. Analysis of Programs

VIII. Discussion of the Issues

Comment 1: Whether a First-Tier Comparison Price Is on the Record

Comment 2: Whether Commerce Should Continue to Use UN Comtrade Prices

Comment 3: Whether the Benchmark Should Include Ocean Freight and Import Duties

IX. Recommendation

[FR Doc. 2025-17283 Filed 9-8-25; 8:45 am]

BILLING CODE 3510-DS-P